DEPARTMENT OF COMMERCE

National Oceanic and Atmospheric Administration

RIN 0648-XE204

Endangered Species; File No. 19621

AGENCY: National Marine Fisheries Service (NMFS), National Oceanic and Atmospheric Administration (NOAA), Commerce.

ACTION: Notice; receipt of application for a permit modification.

SUMMARY: Notice is hereby given that Michael Arendt, South Carolina Department of Natural Resources, Marine Resources Division, 217 Fort Johnson Road, Charleston, SC 29412, has requested a modification to scientific research Permit No. 19621.

DATES: Written, telefaxed, or email comments must be received on or before December 21, 2016.

ADDRESSES: The modification request and related documents are available for review by selecting “Records Open for Public Comment” from the Features box on the Applications and Permits for Protected Species (APPS) home page, https://apps.nmfs.noaa.gov, and then selecting File No. 19621 from the list of available applications. These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Hapeman or Malcolm Mohead, (301) 427-8401.

SUPPLEMENTARY INFORMATION: The subject modification to Permit No. 19621, issued on June 16, 2016 (81 FR 43589) is requested under the authority of the Endangered Species Act of 1973, as amended (16 U.S.C. 1531 et seq.) and the regulations governing the taking, importing, and exporting of endangered and threatened species (50 CFR 222-226).

Permit No. 19621 authorizes the Dr. Arendt to study loggerhead (Caretta caretta), Kemp's ridley (Lepidochelys kempii), green (Chelonia mydas), and leatherback (Dermochelys coriacea) sea turtles in the waters of Florida, Georgia and South Carolina. Researchers may capture animals by trawl or tangle net and perform the following procedures before release: Morphometrics, tagging, photography, biological sampling, ultrasound, marking, laparoscopy and associated transport, transmitter attachment, and/or epibiota removal. A limited number of sea turtles may accidentally die due to capture over the life of the permit. The permit holder requests authorization to: (1) take olive ridley sea turtles (L. olivacea) during all research projects for rare captures that could occur; (2) expand Project 3's area to include coastal shoals adjacent to the Cape Canaveral channel; (3) extend Project 3's duration through October 2020; and (4) increase the annual take of green and loggerhead sea turtles by four and nine turtles, respectively, and authorize double tagging and tissue sampling of a small subset of these animals. Project 3 changes would allow for new collaborations and funding sources to meet the existing objectives to assess the distribution, relative abundance, demographic structure, and health of foraging sea turtles in these waters. The permit expires on June 15, 2021.

Dated: November 16, 2016.
Julia Harrison,
Chief, Permits and Conservation Division, Office of Protected Resources, National Marine Fisheries Service.

[FR Doc. 2016-27975 Filed 11-18-16; 8:45 am]

BILLING CODE 3510-22-P